ENVIRONMENTAL PROTECTION AGENCY

[FRL-10152-01-R10]

Proposed Reissuance of NPDES General Permit for Federal Aquaculture Facilities and Aquaculture Facilities Located in Indian Country in Washington (WAG130000)

AGENCY: Environmental Protection Agency (EPA).

ACTION: Notice of proposed reissuance of NPDES General Permit and request for public comment.

SUMMARY: The Director of the Water Division, Environmental Protection Agency (EPA) Region 10, proposes to reissue the National Pollutant Discharge Elimination System (NPDES) General Permit for Federal Aquaculture Facilities and Aquaculture Facilities Located in Indian Country in Washington (draft general permit). As proposed, eligible facilities include Concentrated Aquatic Animal Production (CAAP) facilities, non-CAAP facilities, aquaculture research facilities, and dam fish passage facilities. Currently, there are 32 facilities covered under the existing administratively continued general permit. Existing aquaculture facilities may request authorization to discharge under the general permit by submitting a Notice of Intent (NOI) no more than ninety (90) days following the effective date of the draft general permit. New facilities that begin operations after the effective date of the draft general permit must submit a NOI at least 180 days prior to initiation of operations. Upon receipt, EPA will review the NOI to ensure that all permit requirements are met. If determined appropriate by EPA, a discharger will be granted coverage under the general permit upon the date that EPA provides written notification. EPA is accepting public comments on the draft general permit.

DATES: Comments must be received by November 7, 2022.

ADDRESSES: Comments and requests regarding the draft general permit must be submitted to epar10wd-npdes@epa.gov with the subject line: Public Comments on WAG130000.

FOR FURTHER INFORMATION CONTACT: Permit documents may be found on the EPA Region 10 website at: https://www.epa.gov/npdes-permits/npdes-general-permit-federal-aquaculture-facilities-and-aquaculture-facilities-located.

Copies of the draft general permit and fact sheet are also available upon request. Requests may be made to Audrey Washington at (206) 553-0523. Requests may also be electronically mailed to: washington.audrey@epa.gov.

SUPPLEMENTARY INFORMATION: Please see the draft general permit and fact sheet.

Other Legal Requirements

This action is not a significant regulatory action and was therefore not submitted to the Office of Management and Budget (OMB) for review.

In accordance with National Environmental Policy Act (NEPA), an Environmental Assessment (EA) and associated Finding of No Significant Impact (FONSI) for a proposed facility at Cassimer Bar that would be covered under this general permit are available for review and comment along with this general permit.

Compliance with Endangered Species Act, Essential Fish Habitat, Paperwork Reduction Act, and other requirements are discussed in the fact sheet to the proposed permit.

Daniel D. Opalski,
Director, Water Division, Region 10.

[FR Doc. 2022-19261 Filed 9-6-22; 8:45 am]

BILLING CODE 6560-50-P